COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds product(s) to the Procurement List that will be furnished by nonprofit agencies employing persons who are blind or have other severe disabilities.

DATES: Date added to the Procurement List: November 29, 2020.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 4/3/2020 and 5/1/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the product(s) and impact of the additions on the current or most recent contractors, the Committee has determined that the product(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) to the Government.

2. The action will result in authorizing small entities to furnish the product(s) to the Government.

3. There are no known regulatory alternatives which would accomplish the objectives of

the Javits-Wagner-O'Day Act (41 U.S.C. 8501-8506) in connection with the product(s) proposed for addition to the Procurement List.

End of Certification

Accordingly, the following product(s) are added to the Procurement List:

Products

NSN(s)—Product Name(s):

6508-00-NIB-0002—Refill, PURELL-SKILCRAFT, Healthcare Advanced Hand Sanitizer, Ultra Nourishing Foam, ES8 System

6508-00-NIB-0003—Refill, PURELL-SKILCRAFT, Healthcare Advanced Hand Sanitizer, Gentle & Free Foam, ES8 System

Designated Source of Supply: Travis Association for the Blind, Austin, TX

Mandatory For: Total Government Requirement

Contracting Activity: DEFENSE LOGISTICS AGENCY, DLA TROOP SUPPORT

NSN(s)—Product Name(s):

3612-00-NIB-0002—3D Printer Filament, Acrylonitrile Butadiene Styrene, Black, 1kg of 1.75 mm

3612-00-NIB-0003—3D Printer Filament, Acrylonitrile Butadiene Styrene, White, 1kg of 1.75 mm

3612-00-NIB-0004—3D Printer Filament, Acrylonitrile Butadiene Styrene, Natural, 1kg of 1.75 mm

3612-00-NIB-0005—3D Printer Filament, Polylactic Acid, Black, 1kg of 1.75 mm

3612-00-NIB-0006—3D Printer Filament, Polylactic Acid, White, 1kg of 1.75 mm

3612-00-NIB-0007—3D Printer Filament, Polylactic Acid, Natural, 1kg of 1.75 mm

3612-00-NIB-0008—3D Printer Filament, Nylon, Black, 1kg of 1.75 mm

3612-00-NIB-0010—3D Printer Filament, Nylon, Natural, 1kg of 1.75 mm

Designated Source of Supply: North Central Sight Services, Inc., Williamsport, PA

Mandatory For: Total Government Requirement

Contracting Activity: FEDERAL ACQUISITION SERVICE, GSA/FAS FURNITURE SYSTEMS MGT DIV

Michael R. Jurkowski,
Deputy Director, Business & PL Operations.

[FR Doc. 2020-24120 Filed 10-29-20; 8:45 am]

BILLING CODE 6353-01-P